DEPARTMENT OF TRANSPORTATION

National Highway Traffic Safety Administration

[Docket No. DOT-NHTSA-2015-0110]

Notice and Request for Comments

AGENCY: National Highway Traffic Safety Administration (NHTSA), Department of Transportation (DOT).

ACTION: Request for public comment on proposed collection of information.

SUMMARY: The Department of Transportation (DOT) invites public comments about our intention to request the Office of Management and Budget (OMB) approval to renew an information collection. Before a Federal agency can collect certain information from the public, it must receive approval from the Office of Management and Budget (OMB). Under procedures established by the Paperwork Reduction Act of 1995, before seeking OMB approval, Federal agencies must solicit public comment on proposed collections of information, including extensions and reinstatement of previously approved collections.

DATES: Written comments should be submitted by March 14, 2016.

ADDRESSES: You may submit comments [identified by Docket No. DOT-NHTSA-2015-0110] through one of the following methods:

• Federal eRulemaking Portal: http://www.regulations.gov. Follow the online instructions for submitting comments.

• Fax: 1-202-493-2251

• Mail or Hand Delivery: Docket Management Facility, U.S. Department of Transportation, 1200 New Jersey Avenue SE., West Building, Room W12-140, Washington, DC 20590, between 9 a.m. and 5 p.m., Monday through Friday, except on Federal holidays.

FOR FURTHER INFORMATION CONTACT: Barbara Sauers, (202) 366-0144, Director, Office of Grants Management and Operations, U.S. Department of Transportation, 1200 New Jersey Avenue SE., Washington, DC 20590.

SUPPLEMENTARY INFORMATION: Under the PRA, before an agency submits a proposed collection of information to OMB for approval, it must first publish a document in the Federal Register providing a 60-day comment period and otherwise consult with members of the public and affected agencies concerning each proposed collection of information. OMB has promulgated regulations describing what must be included in such a document. Under OMB's regulation (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g., permitting electronic submission of responses.

In compliance with these requirements, NHTSA asks for public comments on the following proposed collection of information:

OMB Control Number: 2127-0597.

Title: State Observational Surveys of Seat Belt Use.

Type of Review: Reinstatement of an information collection.

Abstract: The “Uniform Criteria for State Observational Surveys of Seat Belt Use,” requires States re-select observation sites for their annual seat belt survey. States would use an updated roadway segment database to assist with the site selection and then re-select sites utilizing their currently approved seat belt survey design. Section 402 of title 23, United States Code provides that the Secretary of Transportation may not approve a State highway safety program for grant funding which does not provide satisfactory assurances that the State will implement an annual statewide seat belt use survey in accordance with criteria established by the Secretary to ensure that the measurements of seat belt use are accurate and representative. The seat belt use survey rates are verified by the National Highway Traffic Safety Administration's National Center for Statistics and Analysis. The verified seat belt use rates also determine whether a State is eligible for an occupant protection grant as a high seat belt use rate State having a seat belt use rate of at least 90 percent or as a lower seat belt use rate State having a seat belt use rate below 90 percent.

Affected Public: State Highway Safety Offices

Estimated Number of Respondents: 56

Estimated Total Annual Burden Hours: 19,040

Public Comments Invited: You are asked to comment on any aspect of this information collection, including (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995, 44 U.S.C. Chapter 35, as amended; 23 U.S.C. 402 and 405; and 49 CFR 1.94 and 1.95.

Mary D. Gunnels,
Associate Administrator, Office of Regional Operations and Program Delivery.

[FR Doc. 2016-00655 Filed 1-13-16; 8:45 am]

BILLING CODE 4910-59-P